OFFICE OF PERSONNEL MANAGEMENT

Excepted Service

AGENCY: U.S. Office of Personnel Management (OPM).

ACTION: Notice.

SUMMARY: This notice identifies Schedule A, B, and C appointing authorities applicable to a single agency that were established or revoked from June 1, 2013, to June 30, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during June 2013.

Schedule B

No Schedule B authorities to report during June 2013.

Schedule C

The following Schedule C appointing authorities were approved during June 2013.

Agency name | Organization name | Position title | Authorization No. | Effective date
Commission on Civil Rights | Commissioners | Special Assistant | CC130002 | 6/3/2013
Department of the Air Force | Office of the Assistant Secretary, Installations, Environment, and Logistics | Special Assistant | DF130020 | 6/6/2013
Department of Agriculture | Office of the Under Secretary for Rural Development | National Coordinator, Local and Regional Food Systems | DA130073 | 6/3/2013
| Farm Service Agency | State Executive Director (2) | DA130074 | 6/13/2013
|  |  | DA130098 | 6/25/2013
| Natural Resources Conservation Service | Special Assistant | DA130093 | 6/13/2013
| Office of the Assistant Secretary for Congressional Relations | Staff Assistant (Legislative Analyst) | DA130095 | 6/13/2013
| Office of the Assistant Secretary for Administration | Senior Advisor | DA130104 | 6/28/2013
| Office of the Under Secretary for Natural Resources and Environment | Senior Advisor | DA130108 | 6/28/2013
| Rural Business Service | Chief of Staff | DA130111 | 6/28/2013
Department of Commerce | Deputy Assistant Secretary for Domestic Operations | Special Assistant | DC130061 | 6/14/2013
| Assistant Secretary for Market Access and Compliance | Special Advisor | DC130057 | 6/7/2013
Department of Defense | Washington Headquarters Services | Defense Fellow | DD130080 | 6/13/2013
| Office of the Assistant Secretary of Defense (Public Affairs) | Speechwriter | DD130081 | 6/21/2013
Department of Education | Office of Vocational and Adult Education | Deputy Assistant Secretary for Community Colleges | DB130048 | 6/6/2013
| Office for Civil Rights | Senior Counsel | DB130034 | 6/28/2013
| Office of the Under Secretary | Confidential Assistant | DB130052 | 6/24/2013
|  | Deputy Under Secretary | DB130047 | 6/28/2013
Department of Energy | Assistant Secretary for Energy Efficiency and Renewable Energy | Special Assistant for Clean Energy Manufacturing and Commercialization | DE130039 | 6/18/2013
|  | Director of Legislative Affairs | DE130053 | 6/18/2013
|  | Senior Advisor | DE130070 | 6/25/2013
| Associate Administrator for External Affairs | Congressional Affairs Specialist | DE130062 | 6/18/2013
|  | Deputy Director of Congressional Affairs | DE130063 | 6/28/2013
| Assistant Secretary for Congressional and Intergovernmental Affairs | Deputy Assistant Secretary for Energy Policy | DE130066 | 6/19/2013
| Office of the Secretary | Special Assistant | DE130067 | 6/28/2013
| Office of Management | Deputy Director, Office of Scheduling and Advance | DE130071 | 6/28/2013
| Office of Public Affairs | Managing Editor | DE130073 | 6/28/2013
Environmental Protection Agency | Office of the Administrator | White House Liaison | EP130029 | 6/14/2013
| Office of the Associate Administrator for External Affairs and Environmental Education | Director for Internal Communications | EP130030 | 6/19/2013
Farm Credit Administration | Office of Congressional and Public Affairs | Associate Director of Congressional Affairs | FL130003 | 6/11/2013
General Services Administration | Office of Communications and Marketing | Deputy Associate Administrator for Media Affairs | GS130007 | 6/10/2013
|  | Press Secretary | GS130008 | 6/10/2013
| Office of the Administrator | Senior Advisor | GS130012 | 6/17/2013
|  | White House Liaison | GS130011 | 6/10/2013
| Public Buildings Service | Special Assistant | GS130013 | 6/17/2013
Department of Health and Human Services | Office of Intergovernmental and External Affairs | Special Assistant | DH130069 | 6/3/2013
|  | Director of Provider Outreach | DH130089 | 6/17/2013
| Office of the Secretary | White House Liaison for Political Personnel, Boards and Commissions | DH130091 | 6/13/2013
Department of Homeland Security | Office of the Chief of Staff | Special Assistant (2) | DM130115 | 6/3/2013
|  |  | DM130137 | 6/25/2013
Department of Housing and Urban Development | Office of the General Counsel | Senior Counsel | DU130027 | 6/27/2013
| Office of Public Affairs | Senior Speechwriter | DU130028 | 6/27/2013
Department of the Interior | Assistant Secretary—Indian Affairs | Senior Advisor- Indian Affairs | DI130024 | 6/4/2013
| Secretary's Immediate Office | Special Assistant (2) | DI130035 | 6/7/2013
|  |  | DI130037 | 6/11/2013
|  | Director of Scheduling and Advance | DI130042 | 6/26/2013
| Assistant Secretary—Water and Science | Counselor | DI130036 | 6/7/2013
| Assistant Secretary—Fish and Wildlife/Parks | Senior Advisor for Fish and Wildlife/Parks | DI130041 | 6/26/2013
Department of Justice | Office of Public Affairs | Deputy Speechwriter | DJ130058 | 6/4/2013
| Antitrust Division | Senior Counsel | DJ130066 | 6/13/2013
| Office of the Attorney General | Director of Advance | DJ130069 | 6/21/2013
Department of Labor | Office of the Solicitor | Special Counsel | DL130036 | 6/14/2013
| Veterans Employment and Training Service | Chief of Staff | DL130035 | 6/21/2013
Office of Management and Budget | Office of the Director | Special Assistant | BO130022 | 6/24/2013
Office of National Drug Control Policy | Office of Legislative Affairs | Associate Director (Legislative Affairs) | QQ130003 | 6/19/2013
Office of the United States Trade Representative | Office of the Ambassador | Confidential Assistant | TN130003 | 6/3/2013
|  | Deputy Chief of Staff | TN130004 | 6/18/2013
Small Business Administration | Office of Congressional and Legislative Affairs | Special Advisor | SB130015 | 6/26/2013
Department of State | Bureau of Public Affairs | Deputy Spokesperson | DS130089 | 6/13/2013
| Bureau of Legislative Affairs | Legislative Management Officer | DS130091 | 6/14/2013
| Foreign Policy Planning Staff | Speechwriter (3) | DS130094 | 6/28/2013
|  |  | DS130095 | 6/28/2013
|  |  | DS130096 | 6/28/2013
Department of Transportation | Administrator | Director of Communications | DT130025 | 6/25/2013
| Office of Congressional Affairs | Director of Congressional Affairs | DT130027 | 6/25/2013
Department of the Treasury | Assistant Secretary (Tax Policy) | Senior Advisor | DY130061 | 6/17/2013
| Assistant Secretary (Public Affairs) | Media Affairs Specialist | DY130062 | 6/25/2013

The following Schedule C appointing authorities were revoked during June 2013.

Agency name | Organization name | Position title | Authorization No. | Vacate date
Commission on Civil Rights | Commissioners | Special Assistant to the Chairman | CC110008 | 6/10/2013
Department of Agriculture | Natural Resources Conservation Service | Assistant Chief | DA120007 | 6/1/2013
| Office of the Assistant Secretary for Administration | Chief of Staff | DA110063 | 6/1/2013
| Office of Communications | Deputy Director, Operations | DA110016 | 6/1/2013
| Office of the Under Secretary for Food, Nutrition and Consumer Services | Senior Advisor | DA130063 | 6/1/2013
| Office of the Under Secretary for Natural Resources and Environment | Special Assistant | DA090139 | 6/1/2013
Department of Commerce | Office of the White House Liaison | Special Advisor | DC130025 | 6/1/2013
Department of Education | Office of Innovation and Improvement | Confidential Assistant | DB120102 | 6/1/2013
| Office of Planning, Evaluation and Policy Development | Special Assistant Confidential Assistant | DB120006 DB110110 | 6/7/2013 6/11/2013
| Office of the General Counsel | Deputy General Counsel for Accountability | DB100055 | 6/14/2013
| Office of the Deputy Secretary | Confidential Assistant | DB130015 | 6/15/2013
Department of Energy | Office of Science | Special Assistant | DE110106 | 6/1/2013
Department of Homeland Security | Office of the Under Secretary for Science and Technology | Special Assistant to the Under Secretary for Science and Technology | DM120027 | 6/1/2013
| Office of the Chief of Staff | Special Assistant to the Deputy Chief of Staff | DM120126 | 6/15/2013
Department of Housing and Urban Development | Office of Public Affairs | Chief External Affairs Officer/General Deputy Assistant Secretary for Public Affairs | DU120048 | 6/1/2013
| Office of Strategic Planning and Management | Deputy Director | DU100061 | 6/1/2013
| Office of the Secretary | Special Assistant | DU120037 | 6/21/2013
Department of Justice | Civil Division | Counsel and Chief of Staff | DJ120073 | 6/1/2013
| Criminal Division | Counsel to the Assistant Attorney General | DJ100175 | 6/1/2013
| Office of the Attorney General | White House Liaison | DJ120008 | 6/1/2013
| Office on Violence Against Women | Deputy Director for Policy Development | DJ100086 | 6/14/2013
| Civil Rights Division | Senior Counsel | DJ110102 | 6/15/2013
| Office of Justice Programs | Chief of Staff | DJ100118 | 6/21/2013
Department of Labor | Office of Disability Employment Policy | Advisor | DL110020 | 6/1/2013
| Occupational Safety and Health Administration | Chief of Staff | DL090117 | 6/1/2013
| Office of the Secretary | Special Assistant | DL100057 | 6/1/2013
| Bureau of International Labor Affairs | Special Assistant | DL100008 | 6/1/2013
Department of the Interior | Secretary's Immediate Office | Special Assistant | DI090141 | 6/2/2013
| Assistant Secretary—Policy, Management and Budget | Special Assistant to the Assistant Secretary—Policy, Management and Budget | DI120050 | 6/28/2013
Farm Credit Administration | Office of Congressional and Public Affairs | Associate Director of Congressional Affairs | FL090003 | 6/1/2013
General Services Administration | Office of Congressional and Intergovernmental Affairs | Deputy Associate Administrator for Legislative Affairs | GS110026 | 6/1/2013
| Office of the Administrator | Communications Director | GS120012 | 6/15/2013
|  | Press Secretary (2) | GS110029 | 6/15/2013
|  |  | GS120023 | 6/15/2013
Office of the Secretary of Defense | Office of the Assistant Secretary of Defense (Homeland Defense and America's Security Affairs) | Special Assistant to the Deputy Assistant Secretary of Defense (Western Hemisphere Affairs) | DD090245 | 6/1/2013

Authority: 5 U.S.C. 3301 and 3302; E.O. 10577, 3 CFR, 1954-1958 Comp., p. 218.

U.S. Office of Personnel Management.
Elaine Kaplan,
Acting Director.

[FR Doc. 2013-18605 Filed 8-1-13; 8:45 am]

BILLING CODE 6325-39-P